DEPARTMENT OF ENERGY

[Docket No. EA-262]

Application To Export Electric Energy; TransCanada Power Marketing, Ltd.

AGENCY: Office of Fossil Energy, DOE.

ACTION: Notice of application.

SUMMARY: TransCanada Power Marketing, Ltd.. (TCPM) has applied for authority to transmit electric energy from the United States to Canada pursuant to section 202(e) of the Federal Power Act.

DATES: Comments, protests or requests to intervene must be submitted on or before May 13, 2002.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Rosalind Carter (Program Office) 202-586-7903 or Michael Skinker (Program Attorney) 202-586-2793.

SUPPLEMENTARY INFORMATION: Exports of electricity from the United States to a foreign country are regulated and require authorization under section 202(e) of the Federal Power Act (FPA) (16 U.S.C. 824a(e)).

On March 6, 2002, the Office of Fossil Energy (FE) of the Department of Energy (DOE) received an application from TCPM to transmit electric energy from the United States to Canada. TCPM is formed under Delaware law with its principal place of business in Westborough, MA. TCPM is wholly owned by TransCanada Pipeline USA Ltd., which is a wholly-owned subsidiary of TransCanada Pipelines Limited. TCPM does not own or control any electric power generation or transmission facilities and does not have a franchised electric power service area in the United States. TCPM operates as a power marketer and broker of electric power at wholesale and retail and provides services in related areas such as fuel supplies and transmission services.

TCPM will purchase the power to be exported from electric utilities and federal power marketing agencies within the United States and arrange for the delivery of electric energy to Canada over the existing international transmission facilities owned by Basin Electric Power Cooperative, Bonneville Power Administration, Citizen Utilities, Eastern Maine Electric Cooperative, International Transmission Company, Joint Owners of the Highgate Project, Long Sault, Inc., Maine Electric Power Company, Maine Public Service Company, Minnesota Power Inc., Minnkota Power Cooperative, New York Power Authority, Niagara Mohawk Power Corporation, Northern States Power, and Vermont Electric Transmission Company. The construction, operation, maintenance, and connection of each of the international transmission facilities to be utilized by TCPM, as more fully described in the application, has previously been authorized by a Presidential permit issued pursuant to Executive Order 10485, as amended.

Procedural Matters

Any person desiring to become a party to this proceeding or to be heard by filing comments or protests to this application should file a petition to intervene, comment or protest at the address provided above in accordance with section 385.211 or 385.214 of the FERC's Rules of Practice and Procedures (18 CFR 385.211, 385.214). Fifteen copies of each petition and protest should be filed with DOE on or before the date listed above.

Comments on the TCPM application to export electric energy to Canada should be clearly marked with Docket EA-262. Additional copies are to be filed directly with Angela Avery, Legal Counsel (Regulatory), TransCanada Power Marketing Ltd., 450—1st Street, SW., Calgary, Alberta T2P 5H1.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the Fossil Energy Home Page at http://www.fe.de.gov. Upon reaching the Fossil Energy Home page, select “Regulatory Programs,” then “Electricity Regulation,” and then “Pending Proceedings” from the options menus.

Issued in Washington, DC, on April 5, 2002.
Anthony J. Como,
Deputy Director, Electric Power Regulation, Office of Coal & Power Import/Export, Office of Coal & Power Systems, Office of Fossil Energy.

[FR Doc. 02-8868 Filed 4-11-02; 8:45 am]

BILLING CODE 6450-01-P